DEPARTMENT OF HOUSING AND URBAN DEVELOPMENT

[Docket No. FR-5557-D-08]

Delegations of Authority for the Office of Housing—Federal Housing Administration (FHA); Redelegation of Authority Regarding Single Family Housing Programs

AGENCY: Office of the Assistant Secretary for Housing—Federal Housing Commissioner, HUD.

ACTION: Notice of revocation and redelegation of authority.

SUMMARY: On September 15, 2006, the Assistant Secretary for Housing—Federal Housing Commissioner issued an up-to-date comprehensive delegation of authority for single family housing programs. This notice amends that redelegation of authority to reflect changes that have occurred since that time.

DATES: Effective Date: June 5, 2012.

FOR FURTHER INFORMATION CONTACT: Wanda Sampedro, Special Assistant to the Deputy Assistant Secretary for the Office of Single Family Housing, Office of Housing, Department of Housing and Urban Development, 451 Seventh Street SW., Room 9282, Washington, DC 20410, telephone 202-708-3175. (This is not a toll-free number). Persons with hearing or speech impairments may access this number by calling HUD's toll-free Federal Relay Service number at 800-877-8339.

SUPPLEMENTARY INFORMATION: Section I of this notice sets forth the organization of the Office of Single Family Housing. This material is basically the same as that which appeared in the comprehensive delegations of authority published on October 12, 2006 (71 FR 60173). However some wording has been changed to clarify the Single Family organization and functions.

On July 18, 2005, the Assistant Secretary issued a redelegation of authority to management and marketing contractors (M&Ms) to execute routine documents necessary for the management and sale of single-family properties acquired by HUD in connection with its Single Family Housing Mortgage Insurance Program. The notice of redelegation of authority was published on July 26, 2005, at 70 FR 43171 and was incorporated into the comprehensive redelegation of authority of October 2006 in Section III.Q. Management and Marketing (M&M) Contractors. This redelegation of authority is continued in this notice.

On September 17, 2003, the Assistant Secretary issued an unpublished redelegation of authority to certain staff in the Office of Housing's Caribbean Office enabling them to carry out duties in connection with the Single Family Property Disposition Program. In the usual course, these duties would be carried out by designated officials in the Atlanta, Georgia, Homeownership Center (HOC). However, local law in Puerto Rico requires HUD staff in the Caribbean Office to accept conveyances of title. Accordingly, the redelegation is again incorporated into the comprehensive redelegation of authority in Section III.S.

Accordingly, the notice of redelegation of authority for single family housing programs is amended and updated, as follows:

Section I. Single Family Housing Programs—Office of Housing Organization

A. Office of Single Family Housing—Headquarters

All Office of Single Family Housing managers, in Headquarters and the field, report to the Deputy Assistant Secretary for Single Family Housing and Associate Deputy Assistant Secretary for Single Family Housing. In Headquarters, there are three major single family housing offices, each of which are headed by a Director and are comprised of Divisions. These offices are the following:

The Office of Single Family Housing Program Development: This office is comprised of three divisions. The Home Mortgage Insurance Division is generally responsible for developing and implementing policies, procedures, and guidelines covering the pre-application through the final endorsement stage of FHA mortgage insurance cases, including mortgage loan origination and refinancing cases.

The Program Support Division is responsible for: Administering the Housing Counseling Program under section 106 of the Housing and Urban Development Act of 1968; administering FHA's nonprofit mortgagor discount sales and secondary financing programs; maintaining the Single Family Housing Web site; producing single family housing brochures; overseeing the marketing of single family housing programs; and providing a wide variety of technical assistance to the three offices within the Office of Single Family Housing.

The Home Valuation Policy Division is responsible for managing all single family property appraisal and valuation requirements. These functions include oversight and monitoring of appraisers and analyzing single family property valuation issues, including standards and policies associated with new construction and property rehabilitation, and all origination and several servicing policies for administering the home equity conversion mortgage program.

The Office of Single Family Asset Management: This office is comprised of two divisions. The first division, the National Servicing Center (NSC), serves as the operational arm of the Office of Single Family Asset Management. It provides centralized servicing, loss mitigation, and operations support for the FHA-insured mortgage portfolio from the point of loan endorsement through termination. The NSC has oversight responsibility for the FHA Loss Mitigation Program; for servicing Secretary-owned first and second mortgages; for providing default, foreclosure, and loss mitigation activity reporting and analyses; and for ranking and rating lender servicing and loss mitigation performance. The NSC works with mortgage servicers and homeowners to find solutions to avoid foreclosure of FHA-insured loans and provides direction and training to lenders and Housing Counseling Agencies, better enabling them to assist homeowners. Although it is a Headquarters Division, the NSC's staff is out-stationed to Oklahoma City and Tulsa, Oklahoma. The loan servicing and loss mitigation functions carried out by the NSC are not delegated to any field office.

The second division, the Asset Management and Disposition Division (AMDD), is responsible for establishing policy for the servicing of FHA loans, and the management and marketing of HUD-acquired single family properties. These policies are promulgated in the form of Regulations, Mortgagee Letters, and Housing Notices. The scope of these policies includes but is not limited to escrow requirements, pre-payments, loss mitigation, and mortgage insurance claims. AMDD is also responsible for operating HUD's mission programs.

The Office of Lender Activities and Program Compliance (OLAPC): This office consists of three divisions. Acting as the regulatory oversight and enforcement entity within the Office of Single Family Housing, OLAPC executes a three-part risk management strategy comprised of the following functions:

Evaluating—The Lender Approval and Recertification Division approves and recertifies qualified lenders to participate in FHA's mortgage insurance programs.

Monitoring—The Quality Assurance Division (QAD) directs operational, loan and institutional level risk analysis and review processes. QAD uses HUD's data systems to analyze and evaluate loans and mortgagee portfolios to identify performance problems that put the FHA insurance fund at risk.

Enforcement—The Mortgagee Review Board Division serves as staff for the Mortgagee Review Board, which takes administrative action against FHA-approved lenders when there is adequate evidence of serious violations in the origination, underwriting, or servicing of loans submitted for FHA insurance.

B. Single Family Housing—Field Office Structure

In order to maximize efficiencies and empower people and communities, the Office of Single Family Housing undertook a major field reorganization several years ago. Today, the Office of Single Family Housing has Homeownership Centers (HOCs) in four locations: Atlanta, Georgia; Denver, Colorado; Philadelphia, Pennsylvania; and Santa Ana, California. These HOCs are generally responsible for the processing of cases within their respective geographic jurisdictions, but some monitoring and review processes are workload balanced across jurisdictions. In addition, Office of Single Family Housing employees are out-stationed to locations throughout the United States. Among other things, these employees work within local communities to perform marketing and outreach activities to ensure that the public is aware of and has access to Office of Housing programs. Program support employees evaluate and provide technical assistance to HUD-approved housing counseling agencies. Out-stationed employees also perform some monitoring and review processes.

A uniform structure applies to all of the HOCs. The highest-ranking official in the HOC is the HOC Director, who is assisted by the HOC Deputy Director. Functions performed by HOC staff are distributed, according to type (e.g., production, quality assurance, etc.), among five Divisions, each of which is headed by a Division Director. The five HOC Divisions are titled:

(1) Processing and Underwriting;

(2) Quality Assurance;

(3) Program Support;

(4) Real Estate Owned; and

(5) Operations and Customer Service.

Division Directors report to the HOC Director and Deputy Director. (As is the case in Headquarters, all staff report to the Deputy Assistant Secretary for Single Family Housing and the Associate Deputy Assistant Secretary for Single Family Housing.) The chart below identifies each HOC and its geographic jurisdiction.

Atlanta Homeownership Center
Atlanta
Jackson
Jacksonville
Knoxville
Greensboro
Indianapolis
Chicago
Orlando
Tampa
Springfield
Memphis
Nashville
Birmingham
Columbia
Miami
Louisville
The Caribbean
Denver Homeownership Center
Denver
Casper
Salt Lake City
Des Moines
St. Louis
Oklahoma City
Omaha
Albuquerque
Helena
San Antonio
Tulsa
New Orleans
Shreveport
Fort Worth
Fargo
Sioux Falls
Little Rock
Houston
Kansas City
Lubbock
Dallas
Milwaukee
Minneapolis
Philadelphia Homeownership Center
Philadelphia
Albany
New York
Providence
Columbus
Detroit
Syracuse
Cincinnati
Camden
Buffalo
Burlington
Washington, DC
Cleveland
Grand Rapids
Boston
Bangor
Pittsburgh
Richmond
Flint
Manchester
Charleston
Hartford
Baltimore
Wilmington
Newark
Santa Ana Homeownership Center
Santa Ana
Fresno
Honolulu
Las Vegas
Los Angeles
Phoenix
Reno
Sacramento
San Diego
San Francisco
Tucson
Seattle
Anchorage
Boise
Portland
Spokane

Section II. Single Family Programs—Functions

The Office of Single Family Housing is charged with carrying out duties of the Assistant Secretary, General Deputy Assistant Secretary and Associate General Deputy Assistant Secretary for Housing as they relate to single family housing programs set forth in the National Housing Act and other legislation. This broad range of programs enables HUD, in concert with program participants in the private and public sectors, to provide safe, decent, and affordable single family housing to millions of American families.

Under this delegation, the Assistant Secretary for Housing, General Deputy Assistant Secretary for Housing and Associate General Deputy Assistant Secretary for Housing redelegate broad program authority to the Deputy Assistant Secretary for Single Family Housing and the Associate Deputy Assistant Secretary for Single Family Housing and commensurate with their respective duties, Directors in Headquarters and in the field.

Characterizing the redelegated authority in broad or generic terms will enable the above Deputy Assistant Secretary for Single Family Housing and Associate Deputy Assistant Secretary for Single Family Housing, and Directors in Headquarters and the field, to perform all functions necessary to accomplish single family housing program tasks and objectives.

In some past delegation notices, HUD has set forth, in “laundry list” fashion the detailed functions carried out by managers under generic function headings. However, publishing detailed lists has proven problematic, as some listed items become obsolete over time, while other functions are omitted through oversight. Conversely, this delegation sets forth functions in generic terms, while the preamble provides insights into the nature of the work performed by managers with delegated authority under each category. The basic single family housing program functions and a brief description of each are as follows:

A. General Authority

This authority allows managers to sign any and all documents necessary to carry out the business within their program and geographical jurisdictions. In addition, it allows managers, when considering a proposal, to waive any directives not mandated by statute or regulation for good cause and with a written justification.

B. Production

This function allows a manager with delegated authority to make all necessary determinations that relate to the insured mortgage process. Essentially, this category of functions begins with a proposal to insure a home mortgage and ends with the Department's endorsement of an insured mortgage. For all insurance programs, it includes, but is not limited to, such activities as approving direct endorsement lenders' and monitoring contract reviews; maintaining rosters and other lists of appraisers, inspectors, and lenders; performing underwriting reviews for mortgage credit; performing appraisal reviews; performing architectural field reviews; and setting mortgage limits.

C. Servicing and Loss Mitigation

Servicing and Loss Mitigation functions are intended to ensure the servicing of the Secretary-held mortgage portfolio; partial claims; the monitoring of FHA servicers' use of loss mitigation; and, timely reporting of defaulted, FHA-insured loans. Additional responsibilities include: writing off or compromising principal debt, up to a maximum of $100,000; providing on-site and off-site loss mitigation training to lenders, housing counseling agencies, and other FHA program offices within HUD; administering the Home Equity Conversion Mortgage (HECM) program; operating a nationwide call center to respond to questions concerning loss mitigation and foreclosure relief programs; and supporting the Department's endeavor against predatory lending practices.

D. Quality Assurance

Quality assurance functions are intended to ensure that an FHA lender is in compliance with FHA lending requirements and procedures. Responsibilities include targeting lenders for review, conducting the Credit Watch Termination Initiative to identify and take action against poorly performing lenders, and administering the Neighborhood Watch Early Warning System, a web-based monitoring tool that allows HUD staff, lenders, appraisers, concerned citizens and other interested parties to monitor loan activity in areas as large as the United States or as small as a local zip code. These mechanisms are used to manage FHA's counterparty risk and mitigate losses to FHA's insurance funds.

E. Lender Approval and Recertification

Lender approval and recertification functions are the means by which FHA vets its lender partners and approves them for initial and continuing participation in FHA programs. Additional responsibilities include the management of HUD's Institution Master File, which records all relevant data for FHA-approved lenders and supplies lender data to more than 20 of FHA's key data systems and the administration of the Lender Assessment Subsystem for purposes of electronic submission and storage of the annual audit reports required of lenders seeking renewal of their FHA lender approval.

F. Enforcement

Enforcement functions protect FHA and its mortgage insurance funds from fraud and program abuse, and encourage program compliance by FHA-approved lenders. Via the imposition of civil money penalties and administrative sanctions against FHA approved lenders and mortgagees who knowingly and materially violate FHA program statutes, regulations and handbook requirements, FHA ensures compliance with HUD requirements and protects FHA's insurance funds from unwarranted risks and losses.

G. Grants

In any given year Congress may authorize funds for grant programs. The Assistant Secretary is the Grant Officer and thus the sole official responsible for making grantee selections. Grant functions include developing criteria for grant applications, rating and ranking proposals, and selecting government technical representatives to oversee performance under the grant contracts. Once a grant is awarded, functions include monitoring a grantee's compliance with the agreement, modifying a grant, terminating a grant for non-compliance, and closing out a grant in the usual course. The Assistant Secretary retains and does not delegate the authority of the Grant Officer.

H. Program Demonstrations

Periodically, Congress enacts legislation authorizing HUD to conduct a program on a demonstration basis. The purpose of the demonstration is essential to test the viability of a new program or product on a limited basis, e.g., by geography, case volume, or time. Functions related to demonstration programs include developing program criteria, implementing the program, monitoring activities and results, preparing any required reports to the Congress, and closing out the demonstration program.

I. Property Disposition

Section 204(g) of the National Housing Act (12 U.S.C. 1710) addresses the management and disposition of HUD-acquired single family properties. HUD's implementing regulations are found in 24 CFR part 291, entitled Disposition of HUD-acquired single family property. Under these statutory and regulatory authorities, HUD is charged with implementing a program of sales of HUD-acquired properties, along with appropriate credit terms and standards to be used in carrying out the program. Beginning with this notice, the Assistant Secretary redelegates the authority under 24 CFR 291.210(c), entitled Direct Sales to individuals or entities, to the Deputy Assistant Secretary for Single Family Housing.

Most of HUD's single family property disposition functions occur after HUD has acquired title to a property; some, however, occur during the pre-acquisition period. Principal disposition functions include, but are not limited to:

(1) Oversight monitoring,

(2) Mortgage compliance management,

(3) Field service management, and

(4) Asset management.

J. Suspensions, Debarments and Limited Denials of Participation

A participant or contractor or affiliate, other than a mortgagee, who fails to comply with HUD program regulations, rules, and/or procedures, can be denied the right to participate in a HUD program or programs. Procedures governing the nature and scope of proceedings for the issuance of a suspension, debarment or limited denial of participation are set forth in 2 CFR part 2424 and 2 CFR part 180. Only certain officials may issue such limited denials of participation pursuant to the process in the regulations. [Note: FHA-approved mortgagees are subject to an independent sanction process set forth in 24 CFR part 25.]

Section III. Single Family Programs—Authority Redelegated

As described in the paragraph that follows this one, the Assistant Secretary and the General Deputy Assistant Secretary and the Associate General Deputy Assistant Secretary retain and redelegate the following power and authority: (1) To the Deputy Assistant Secretary for Single Family Housing and Associate Deputy Assistant Secretary for Single Family Housing and (2) through the above Deputy Assistant Secretary and Associate Deputy Assistant Secretary, to the Headquarters Office Directors and Headquarters Deputy Office Directors listed below, and (3) through the Headquarters Single Family Office Directors and Deputy Office Directors, to the Headquarters and Field Office managers, and certain other officials;

A. Deputy Assistant Secretary and Associate Deputy Assistant Secretary, Office of Single Family Housing

Authority is redelegated, on a nationwide basis, to take all actions necessary to the conduct of all Single Family Housing programs, including, but not limited to, the exercise of the following functions:

1. The general power to sign any documents necessary to perform enumerated functions, and to waive any directive that is not mandated by a statute or regulation;

2. All production functions related to mortgage insurance, grant, or other programs;

3. All loan servicing and loss mitigation functions, including the authority to act as a claims collection officer and to write off or compromise debt up to $100,000;

4. All quality assurance functions;

5. All functions necessary to administer grants and cooperative agreements awarded by the Assistant Secretary. However, noncompetitive contract awards proposed by assistance recipients subject to the administrative requirements for grants and cooperative agreements at 24 CFR part 85 may only be approved by the Assistant Secretary;

6. All functions necessary to carry out a program conducted on a demonstration basis;

7. All property disposition functions

8. Authority to conduct hearings concerning a lender or program participant's participation in HUD programs, and to issue (a) limited denials of participation, and (b) final debarment decisions, where a participant has elected not to contest the notice of proposed debarment of the Assistant Secretary; and

9. Authority to perform all source selection official duties in connection with Single Family Housing procurement actions.

B. Director and Deputy Director, Office of Single Family Housing Program Development

Authority is redelegated, on a nationwide basis, to take all actions necessary to the conduct of single family housing programs, in relation to the following functions:

1. The general power to sign any documents necessary to perform enumerated functions and to waive any directive that is not mandated by a statute or regulation;

2. All production functions related to mortgage insurance, grant, or other programs;

3. All functions necessary to carry out a cooperative agreement or competitive or non-competitive grant program, except for making grantee selections and approving recipient noncompetitive contracts; and

4. All functions necessary to carry out a program conducted on a demonstration basis.

C. Director, Home Mortgage Insurance Division, Office of Single Family Housing Program Development

Authority is redelegated, on a nationwide basis, to take all actions necessary to the conduct of single family housing programs, in relation to the following functions:

1. The general power to sign any documents necessary to perform enumerated functions and to waive any directive that is not mandated by a statute or regulation;

2. All production functions related to mortgage insurance, grant, or other programs; and

3. All functions necessary to carry out a program conducted on a demonstration basis.

D. Director, Program Support Division, Office of Single Family Housing Program Development

Authority is redelegated, on a nationwide basis, to take all actions and to perform all functions necessary to the conduct of the single family housing programs as follows:

1. The general power to sign any documents necessary to perform enumerated functions and to waive any directive that is not mandated by statute or regulation;

2. All functions necessary to carry out a cooperative agreement, competitive or non-competitive grant program except for making grantee selections and approving recipient noncompetitive contracts; and

3. All functions necessary to carry out a program conducted on a demonstration basis.

E. Director, Home Valuation Policy Division, Office of Single Family Housing Program Development

Authority is redelegated, on a nationwide basis, to take all actions and to perform all functions necessary to the conduct of the single family housing programs, as follows:

1. The general power to sign any documents necessary to perform enumerated functions and to waive any directive that is not mandated by statute or regulation;

2. All production functions related to mortgage insurance, grant, or other programs; and

3. All functions necessary to carry out a program conducted on a demonstration basis.

F. Director and Deputy Director, Office of Single Family Asset Management

Authority is redelegated, on a nationwide basis, to take all actions necessary to the conduct of single family housing programs, in relation to the following functions:

1. The general power to sign any documents necessary to perform enumerated functions and to waive any directive that is not mandated by statute or regulation;

2. Loan servicing and loss mitigation functions, including the authority to act as a claims collection officer and to write off or compromise debt up to $100,000;

3. All property disposition functions, other than:

a. Authorizing direct sales under 24 CFR 291.210(c), unless the sale involves authorizing or originating, but not terminating, a PIH-REO agreement, which may be exercised; and

b. Approving and executing an original Asset Control Area (ACA) agreement (as opposed to an extension agreement), terminating an ACA agreement, and terminating an ACA participant's approval to participate in the ACA program; and

4. All functions necessary to carry out a program conducted on a demonstration basis.

G. Director, Single Family Servicing and Loss Mitigation Division, Office of Single Family Asset Management

Authority is redelegated, on a nationwide basis, to take all actions necessary to the conduct of single family housing programs in relation to the following functions:

1. The general power to sign any documents necessary to perform enumerated functions and to waive any directive that is not mandated by statute or regulations; and

2. All loan servicing and loss mitigation functions, including the authority to act as a claims collection officer and to write off or compromise debt up to $100,000.

H. Director, Asset Management and Property Disposition Division, Office of Single Family Asset Management

Authority is redelegated, on a nationwide basis, to take all actions necessary to the conduct of single family housing programs in relation to the following functions:

1. The general power to sign any documents necessary to perform enumerated functions and to waive any directive that is not mandated by statute or regulation;

2. All property disposition functions other than authorizing direct sales under 24 CFR 291.210(c); and

3. All functions necessary to carry out a program conducted on a demonstration basis.

I. Director and Deputy Director, Office of Lender Activities and Program Compliance

Authority is redelegated, on a nationwide basis, to take all actions necessary to the conduct of single family housing programs in relation to the following functions:

1. The general power to sign any documents necessary to perform enumerated functions and to waive any directive that is not mandated by statute or regulation;

2. All quality assurance functions, including lender approval, re-certification, and program compliance functions;

3. Authority to conduct Credit Watch informal hearings concerning a lender's participation in HUD programs;

4. All functions necessary to carry out a program conducted on a demonstration basis.

J. Director, Lender Approval and Re-Certification Division, Office of Lender Activities and Program Compliance

Authority is redelegated, on a nationwide basis, to take all actions necessary to the conduct of single family housing programs, in relation to the following functions:

1. The general power to sign any documents necessary to perform enumerated functions and to waive any directive that is not mandated by statute or regulation; and

2. All functions related to approving and re-certifying FHA lenders.

K. Director, Quality Assurance Division, Office of Lender Activities and Program Compliance

Authority is redelegated, on a nationwide basis, to take all actions necessary to the conduct of single family housing programs, in relation to the following functions:

1. The general power to sign any documents necessary to perform enumerated functions and to waive any directive that is not mandated by statute or regulation;

2. Monitor lender performance and default and claim rates and to enter into indemnification agreements; and

3. All quality assurance functions related to program compliance by approved FHA lenders;

4. Authority to refer for suspension and proposed debarment.

L. Director, Mortgagee Review Board Division, Office of Lender Activities and Program Compliance

Authority is redelegated, on a nationwide basis, to take all actions necessary to the conduct of single family housing programs, in relation to the following functions:

1. The general power to sign any documents necessary to perform enumerated functions; and

2. All enforcement functions related to program compliance by FHA-approved lenders.

M. Homeownership Center—Director and Deputy Director

Authority is redelegated, within their respective jurisdictions, to take all actions necessary to the conduct of all single family housing programs including, but not limited to, the exercise of the following functions:

1. The general power to sign any documents necessary to perform enumerated functions, and to waive any directive that is not mandated by a statute or regulation;

2. All production functions related to mortgage insurance, grant, or other programs;

3. Monitoring of lender performance and default and claim rates and the entering into of indemnification agreements;

4. All functions necessary to carry out a cooperative agreement, competitive or non-competitive grant program, except for making grantee selections and approving recipient noncompetitive contracts;

5. All functions necessary to carry out a program conducted on a demonstration basis;

6. All property disposition functions other than authorizing direct sales under 24 CFR 291.210(c);

7. Authority to issue limited denials of participation;

8. Authority to refer for suspension and proposed debarment;

9. Authority pursuant to 24 CFR 200.204(a)(2)(iii) to administer the appeals process in connection with the removal of an appraiser from the appraiser roster and to issue a final decision concerning an appraisers removal from the roster; and

10. Authority to perform source selection official duties in connection with field-office based single family housing procurement actions, provided that the (a) contract amount is less than $10 million, and (b) authority is exercised only by the HOC Director.

N. Homeownership Center—Processing and Underwriting Division Director

Authority is redelegated, within their respective jurisdictions, to take all actions necessary to the conduct of all single family housing programs including, but not limited to, the exercise of the following functions:

1. The general power to sign any documents necessary to perform enumerated functions but not to issue waivers of directives;

2. All production functions related to mortgage insurance, grant, or other programs;

3. All functions necessary to carry out a program conducted on a demonstration basis; and

4. Authority pursuant to 24 CFR 200.204(a)(2)(iii) to issue the written notice of proposed roster removal to an appraiser.

O. Homeownership Center—Quality Assurance Division Director

Authority is redelegated, within their respective jurisdictions, to take all actions necessary to the conduct of all single family housing programs including, but not limited to, the exercise of the following functions:

1. The general power to sign any documents necessary to perform enumerated functions but not to issue waivers of directives; and

2. Monitor lender performance and default and claim rates and to enter into indemnification agreements.

3. Authority to refer for suspension and proposed debarment.

P. Homeownership Center—Program Support Division Director

Authority is redelegated, within their respective jurisdictions, to take all actions necessary to the conduct of all single family housing programs including, but not limited to, the exercise of the following functions:

1. The general power to sign any documents to perform enumerated functions but not to issue waivers of directives;

2. All functions necessary to carry out a cooperative agreement, competitive or non-competitive grant program, except for making grantee selections and approving recipient noncompetitive contracts; and

3. All functions necessary to carry out a program conducted on a demonstration basis.

Q. Homeownership Center—Real Estate Owned Division Director

Authority is redelegated, within their respective jurisdictions, to take all actions necessary to the conduct of all single family housing programs including, but not limited to, the exercise of the following functions:

1. The general power to sign any documents necessary to perform enumerated functions but not to issue waivers of directives;

2. All property disposition functions other than authorizing direct sales under 24 CFR 291.210(c); and

3. All functions necessary to carry out a program conducted on a demonstration basis.

R. Particular Management and Marketing (M&M) Contractor Officials

Authority to execute all documents necessary in connection with the management and sale of residential real property acquired by HUD under its insured mortgage and asset management and disposition programs, excluding indemnification agreements, but including the authority to acknowledge, seal, and deliver any agreements of sale, special warranty deeds, form HUD-1 Settlement Statements, and any other instrument that may be necessary in connection with property management and sales on behalf of the Department, is redelegated to certain principals and/or officers of HUD's M&Ms whose identity will be maintained at its Web site located at www.hud.gov/offices/hsg/sfh//reo/reo_home.cfm.

S. Supervisory Housing Program Specialist, Office of Single Family Housing's Caribbean Office

1. The general power to sign any documents necessary to perform the property disposition function identified immediately below and to waive any directive that is not mandated by statute or regulation; and

2. The authority to accept conveyances of title to the Secretary of one- to- four unit properties.

Section IV. Authority Excepted

The authority redelegated in Section III.A through S does not include authority to issue or waive regulations.

Section V. Further Redelegations

The authority redelegated by the Assistant Secretary for Housing-Federal Housing Commissioner, the General Deputy Assistant Secretary-Deputy Federal Housing Commissioner and the associate General Deputy Assistant Secretary for Housing may not be further redelegated by the officials identified in Section III.A through S.

Section VI. Revocation of Delegations

All prior redelegations issued by the Assistant Secretary for Housing to staff in the Office of Single Family Housing are hereby superseded. The Assistant Secretary for Housing-Federal Housing Commissioner, the General Deputy Assistant Secretary for Housing-Deputy Federal Housing Commissioner and the Associate General Deputy Assistant Secretary for Housing may, at any time, revoke any of the authority redelegated in this notice. Revocation shall be effective upon the date of removal. With respect to the officials identified in Section R, revocation shall be effective upon removal of the affected principal or officer's name from the Web site referenced in Section R. Notice of any revocation will be published in the Federal Register.

Authority: Section 7(d), Department of Housing and Urban Development Act, 42 U.S.C. 3535(d).

Dated: June 5, 2012.
Carol J. Galante,
Acting Assistant Secretary for Housing-Federal Housing Commissioner.

[FR Doc. 2012-15077 Filed 6-19-12; 8:45 am]

BILLING CODE 4210-67-P